DEPARTMENT OF COMMERCE

National Oceanic and Atmospheric Administration

[I.D. 091400A]

Marine Mammals

AGENCY: National Marine Fisheries Service (NMFS), National Oceanic and Atmospheric Administration (NOAA), Commerce.

ACTION: Issuance of photography permit no. 986-1592-00.

SUMMARY: Pandion Enterprises, P.O. Box 545, Summerland, California 93067, [Permit Holder: Bruce Reitherman], has been issued a permit to take by Level B harassment one species, elephant seal(Mirounga angustirostris), of non-threatened, non-endangered marine mammals for purposes of commercial photography.

ADDRESSES: The permit and related documents are available for review upon written request or by appointment in the following offices:

Permits Division, Office of Protected Resources, NMFS,1315 East-West Highway, Room 13130, Silver Spring, MD 20910 (301/713-2289); and

Regional Administrator, Southwest Region, NMFS, 501 West Ocean Boulevard, Long Beach, California 90802-4213, (562/980-4000).

SUPPLEMENTARY INFORMATION: On August 9, 2000, notice was published in the Federal Register(65 FR 48679) that the above-named applicant had submitted a request for a permit to take one species of marine mammals by Level B harassment during the course of commercial photographic activities in Piedras Blancas and Ano Nuevo, California. The requested permit has been issued, under the authority of §104(c)(6) of the Marine Mammal Protection Act of 1972, as amended (16 U.S.C. 1361 et seq.).

Dated: October 5, 2000.
Ann D. Terbush,
Chief, Permits and Documentation Division, Office of Protected Resources, National Marine Fisheries Service.

[FR Doc. 00-26655 Filed 10-16-00; 8:45 am]

BILLING CODE 3510-22-S